DEPARTMENT OF HEALTH AND HUMAN SERVICES

Centers for Disease Control and Prevention

[30 Day-08-07BD]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC 20503 or by fax to (202) 395-6974. Written comments should be received within 30 days of this notice.

Proposed Project

Building Related Asthma Research in Public Schools—New—National Institute for Occupational Safety and Health (NIOSH), Centers for Disease Control and Prevention (CDC).

Background and Brief Description

The mission of the National Institute for Occupational Safety and Health (NIOSH) is to promote safety and health at work for all people through research and prevention. The Occupational Safety and Health Act, Public Law 91-596 (section 20[a][1]) authorizes the National Institute for Occupational Safety and Health (NIOSH) to conduct research to advance the health and safety of workers. NIOSH is conducting a longitudinal study among teachers and staff in public schools. The goals of this study are (1) to document the time course of changes in respiratory health, sick leave, and quality of life in relation to building remediation for water incursion and dampness problems; (2) to validate the reporting of building-related lower respiratory symptoms in school staff with bronchial hyper-responsiveness by the use of serial spirometry to look for building-related patterns of airflow variability; and (3) to demonstrate that a toolkit comprised of a semi-quantitative index for assessing water damage and signs of moisture in schools, along with a short health questionnaire, can be used by school personnel to pinpoint specific problem areas and aid remediation efforts.

The Centers for Disease Control and Prevention sponsored the Institute of Medicine to make an exhaustive review of the published literature relating exposures in damp buildings to health consequences. The committee findings, summarized in Damp Indoor Spaces and Health (Institute of Medicine of the National Academies of Science 2004), concluded that sufficient evidence exists for associating the presence of mold or other agents in damp buildings to nasal and throat symptoms, cough, wheeze, asthma symptoms in sensitized asthmatics, and hypersensitivity pneumonitis in susceptible persons. Identification of specific causal agents for these health outcomes in damp environments requires more investigation, and more research and demonstration projects are needed to evaluate interventions in damp buildings.

NIOSH is proposing to conduct an initial cross-sectional respiratory health survey in three public schools. The study will then continue with two additional years of longitudinal follow-up, which will be used to assess respiratory health and environmental conditions in relation to time and intervention status in the three schools. NIOSH will study one school with no history of building leaks and good control of internal moisture sources, one school with previous building leaks and water damage but with subsequent renovation before the start of the study, and one school with current building leaks and dampness problems with renovation scheduled during the study. The questionnaire will be administered each year by a NIOSH interviewer who will record the responses directly into a computer. The questionnaire will be offered to all school employees; we expect no more than 300 participants. It will include sections on the participant's medical history, work history, and home environment. For participants who no longer work at the school, a short questionnaire will be administered by NIOSH staff over the telephone during the second and third years of the study. Assuming that 10% of the participants will leave the school during the three-year period, we expect to interview about 30 former workers.

All participants from the initial cross-sectional survey meeting an epidemiologic definition of asthma and reporting that the symptoms improve away from the school will be asked to perform spirometry and a methacholine challenge test, or if obstructed, a bronchodilator test, both of which are standard medical tests for asthma; NIOSH anticipates about 45 respondents for these tests. A maximum of twenty participants who are positive for either lung function test will be asked to participate in the serial spirometry study, which will cover three weeks during the school term and an additional three weeks during the summer break.

The school nurse will be trained in using a shortened version of the health questionnaire to all school staff and analyze the results of the survey. Additionally, facility personnel will be trained in the use of a semi-quantitative index tool and asked to use the tool to assess areas in the schools for water damage and signs of moisture during their routine inspections. Participation in all components of the study is completely voluntary.

There are no costs to the respondents other than their time. The total estimated annualized burden hours are 1030.

Estimated Annualized Burden Hours
Type of respondents | Forms | Number of respondents | Number of responses per respondent | Average burden per response (in hours)
Teachers and staff | NIOSH-Administered Questionnaire | 300 | 1 | 45/60
Former teachers and staff | Former Worker Questionnaire (Years 2 & 3 only) | 30 | 1 | 9/60
Teachers and staff | Spirometry, Methacholine Challenge Test or Bronchodilator Administration | 45 | 1 | 1
Teachers and staff | Serial Spirometry | 20 | 1 | 37
Facility personnel | Semi-Quantitative Assessment Sheet | 3 | 1 | 5

Dated: April 8, 2008.
Maryam I. Daneshvar,
Acting Reports Clearance Officer, Centers for Disease Control and Prevention.

[FR Doc. E8-7845 Filed 4-11-08; 8:45 am]

BILLING CODE 4163-18-P